FEDERAL EMERGENCY MANAGEMENT AGENCY

44 CFR Part 65

[Docket No. FEMA-B-7428]

Changes in Flood Elevation Determinations

AGENCY: Federal Emergency Management Agency (FEMA).

ACTION: Interim rule.

SUMMARY: This interim rule lists communities where modification of the Base (1-percent-annual-chance) Flood Elevations is appropriate because of new scientific or technical data. New flood insurance premium rates will be calculated from the modified Base Flood Elevations for new buildings and their contents.

DATES: These modified Base Flood Elevations are currently in effect on the dates listed in the table below and revise the Flood Insurance Rate Maps in effect prior to this determination for each listed community.

From the date of the second publication of these changes in a newspaper of local circulation, any person has ninety (90) days in which to request through the community that the Director, Federal Insurance and Mitigation Administration, reconsider the changes. The modified elevations may be changed during the 90-day period.

ADDRESSES: The modified Base Flood Elevations for each community are available for inspection at the office of the Chief Executive Officer of each community. The respective addresses are listed in the table below.

FOR FURTHER INFORMATION CONTACT: Matthew B. Miller, P.E., Chief, Hazards Study Branch, Federal Insurance and Mitigation Administration, Federal Emergency Management Agency 500 C Street SW., Washington, DC 20472, (202) 646-3461, or (e-mail) matt.miller@fema.gov.

SUPPLEMENTARY INFORMATION: The modified Base Flood Elevations are not listed for each community in this interim rule. However, the address of the Chief Executive Officer of the community where the modified Base Flood Elevation determinations are available for inspection is provided.

Any request for reconsideration must be based on knowledge of changed conditions or new scientific or technical data.

The modifications are made pursuant to Section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified Base Flood Elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State, or regional entities.

The changes in Base Flood Elevations are in accordance with 44 CFR 65.4.

National Environmental Policy Act. This rule is categorically excluded from the requirements of 44 CFR Part 10, Environmental Consideration. No environmental impact assessment has been prepared.

Regulatory Flexibility Act. The Administrator, Federal Insurance and Mitigation Administration certifies that this rule is exempt from the requirements of the Regulatory Flexibility Act because modified Base Flood Elevations are required by the Flood Disaster Protection Act of 1973, 42 U.S.C. 4105, and are required to maintain community eligibility in the NFIP. No regulatory flexibility analysis has been prepared.

Regulatory Classification. This interim rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona:
Maricopa | City of El Mirage (00-09-083P) | Jan. 31, 2002, Feb. 7, 2002, Arizona Republic | The Honorable Jose Delgado, Mayor, City of El Mirage, 14405 North Palm Street, El Mirage, Arizona 85335 | Jan. 4, 2002 | 040041
Maricopa | City of Goodyear (02-09-257P) | Jan. 24, 2002, Jan. 31, 2002, Arizona Republic | The Honorable Bill Arnold, Mayor, City of Goodyear, 119 North Litchfield Road, Goodyear, Arizona 85338 | Jan. 15, 2002 | 040046
Maricopa | City of Peoria (01-09-1060P) | Mar. 7, 2002, March 14, 2002, Arizona Republic | The Honorable John Keegan, Mayor, City of Peoria, 8401 West Monroe Street, Peoria, Arizona 85345 | June 13, 2002 | 040050
Maricopa | City of Phoenix (01-09-526P) | Jan. 10, 2002, Jan. 17, 2002, Arizona Republic | The Honorable Skip Rimsza, Mayor, City of Phoenix, 200 Washington Street, 11th Floor, Phoenix, Arizona 85003-1611 | Dec. 12, 2001 | 040051
Maricopa | City of Scottsdale (01-09-1199P) | Feb. 28, 2002, Mar. 7, 2002, Arizona Republic | The Honorable Mary Manross, Mayor, City of Scottsdale, 3939 Civic Center Boulevard, Scottsdale, Arizona 85251 | June 5, 2002 | 045012
Maricopa | City of Surprise (00-09-083P) | Jan. 31, 2002, Feb. 7, 2002, Arizona Republic | The Honorable Joan Shafer, Mayor, City of Surprise, 12425 West Bell Road, Suite D100, Surprise, Arizona 85374 | Jan. 4, 2002 | 040053
Maricopa | City of Surprise (02-09-165P) | Mar. 7, 2002, Mar. 14, 2002, Arizona Republic | The Honorable Joan Shafer, Mayor, City of Surprise, 12425 West Bell Road, Suite D-100, Surprise, Arizona 85374 | Feb. 19, 2002 | 040053
Maricopa | Unincorporated Areas (00-09-083P) | Jan. 31, 2002, Feb. 7, 2002, Arizona Republic | The Honorable Janice Brewer, Chairperson, Maricopa County Board of Supervisors, 301 West Jefferson, 10th Floor, Phoenix, Arizona 85003 | Jan. 4, 2002 | 040037
Maricopa | Unincorporated Areas (01-09-1158P) | Mar. 15, 2002, Mar. 22, 2002, Arizona Republic | The Honorable Janice Brewer, Chairperson, Maricopa County Board of Supervisors, 301 West Jefferson, 10th Floor, Phoenix, Arizona 85003 | Mar. 5, 2002 | 040037
Pima | City of Tucson (00-09-051P) | Nov. 8, 2001, Nov. 15, 2001, Arizona Daily Star | The Honorable Robert Walkup, Mayor, City of Tucson, P.O. Box 27210, Tucson, Arizona 85726 | Nov. 2, 2001 | 040076
California:
Alameda | City of Livermore (01-09-344P) | Feb. 7, 2002, Feb. 14, 2002, Tri-Valley Herald | The Honorable Cathie Brown, Mayor, City of Livermore, 1052 South Livermore Avenue, Livermore, California 94550 | Dec. 19, 2001 | 060008
Alameda | Unincorporated Areas (01-09-344P) | Jan. 11, 2002, Jan. 18, 2002, Inter-City Express | The Honorable Scott Haggerty, Chairman, Alameda County Board of Supervisors, 1221 Oak Street, Suite 536, Oakland, California 94612 | Dec. 19, 2001 | 060001
Riverside | Unincorporated Areas (02-09-069P) | Dec. 21, 2001, Dec. 28, 2001, The Press—Enterprise | The Honorable Jim Venable, Chairman, Riverside County Board of Supervisors, 4080 Lemon Street, 14th Floor, Riverside, California 92501 | Nov. 27, 2001 | 060245
San Diego | City of Escondido (02-09-498X) | Feb. 8, 2002, Feb. 15, 2002, North County Times | The Honorable Lori Holt Pfeiler, Mayor, City of Escondido, 201 North Broadway, Escondido, California 92025 | Feb. 19, 2002 | 060290
San Diego | City of San Diego (02-09-498X) | Feb. 8, 2002, Feb. 15, 2002, San Diego Daily Transcript | The Honorable Dick Murphy, Mayor, City of San Diego, 202 C Street, 11th Floor, San Diego, California 92101 | Feb. 19, 2002 | 060295
Santa Clara | City of Santa Clara (01-09-1106P) | Jan. 24, 2002, Jan. 31, 2002, San Jose Mercury News | The Honorable Judy Nadler, Mayor, City of Santa Clara, 1500 Warburton Avenue, Santa Clara, California 95050 | Jan. 4, 2002 | 060350
Solano | City of Vacaville (01-09-935P) | Mar. 21, 2002, Mar. 28, 2002, The Reporter | The Honorable David Fleming, Mayor, City of Vacaville, City Hall, 650 Merchant Street, Vacaville, California 95688 | Feb. 21, 2002 | 060373
Ventura | City of Fillmore (01-09-709P) | Jan. 31, 2002, Feb. 7, 2002, The Fillmore Gazette | The Honorable Donald Gunderson, Mayor, City of Fillmore, Fillmore City Hall, Central Park Plaza, 250 Central Avenue, Fillmore, California 93015-1907 | May 8, 2002 | 060415
Ventura | Unincorporated Areas (01-09-709P) | Jan. 31, 2002, Feb. 7, 2002, The Fillmore Gazette | The Honorable Frank Schillo, Chairman, Ventura County Board of Supervisors, 800 South Victoria Avenue, Ventura, California 93009 | May 8, 2002 | 060413
Adams | Unincorporated Areas (00-08-342P) | Oct. 6, 2001, Oct. 24, 2001, Oct. 27, 2001, Brighton Standard—Blade | The Honorable Marty Flaum, Chairman, Adams County Board of Commissioners, 450 South Fourth Avenue, Brighton, Colorado 80601 | Jan. 23, 2002 | 080001
Adams | Unincorporated Areas (01-08-416P) | Jan. 23, 2002, Jan. 30, 2002, Brighton Standard—Blade | The Honorable Ted Strickland, Chairman, Adams County Board of Commissioners, 450 South Fourth Avenue, Brighton, Colorado 80601 | Apr. 9, 2002 | 080001
Adams and Boulder | City of Broomfield (01-08-416P) | Jan. 2, 2002, Jan. 9, 2002, Boulder Daily Camera | The Honorable William Berens, Mayor, City of Broomfield, One Descombes Drive, Broomfield, Colorado 80020 | Apr. 9, 2002 | 085073
El Paso | Unincorporated Areas (01-08-226P) | Feb. 6, 2002, Feb. 13, 2002, El Paso County News | Mr. Ed Jones, Chairman, El Paso County Board of Commissioners, 27 East Vermijo Avenue, Third Floor, Colorado Springs, Colorado 80903-2208 | May 14, 2002 | 080059
Gilpin | City of Black Hawk (01-08-251P) | Mar. 15, 2002, Mar. 22, 2002, Weekly Register Call | The Honorable Kathryn Ecker, Mayor, City of Black Hawk, P.O. Box 17, Black Hawk, Colorado 80422 | June 20, 2002 | 080076
Larimer | City of Fort Collins (02-08-045P) | Mar. 21, 2002, Mar. 28, 2002, Fort Collins Coloradoan | The Honorable Ray Martinez, Mayor, City of Fort Collins, P.O. Box 580, Fort Collins, Colorado 80522-0580 | Mar. 6, 2002 | 080102
Larimer | Unincorporated Areas (01-08-404P) | Jan. 3, 2002, Jan. 10, 2002, Fort Collins Coloradoan | The Honorable Kathay Rennels, Chairperson, Larimer County Board of Commissioners, P.O. Box 1190, Fort Collins, Colorado 80522-1190 | Apr. 10, 2002 | 080101
Hawaii: Hawaii | Hawaii County (01-09-1038P) | Jan. 17, 2002, Jan. 24, 2002, Hawaii Tribune Herald | The Honorable Harry Kim, Mayor, Hawaii County, 25 Aupuni Street, Hilo, Hawaii 96720 | Dec. 27, 2001 | 155166
Nevada:
Elko | City of Elko (01-09-621P) | Jan. 31, 2002, Feb. 7, 2002, Elko Daily Free Press | The Honorable Mike Franzoia, Mayor, City of Elko, 1751 College Avenue, Elko, Nevada 89801 | May 8, 2002 | 320010
Independent | City of Carson (01-09-066P) | Dec. 21, 2001, Dec. 28, 2001, Nevada Appeal | The Honorable Ray Masayko, Mayor, City of Carson City, 201 North Carson Street, Suite 2, Carson City, Nevada 89701 | Nov. 29, 2001 | 320001
Washoe | City of Reno (01-09-689P) | Jan. 10, 2002, Jan. 17, 2002, Reno Gazette Journal | The Honorable Jeff Griffin, Mayor, City of Reno, P.O. Box 1900, Reno, Nevada 89505-1900 | Dec. 14, 2001 | 320020
Oklahoma: Oklahoma | City of Edmond (02-06-210P) | Mar. 7, 2002, Mar. 14, 2002, Edmond Evening Sun | The Honorable Sandra Naifeh, Mayor, City of Edmond, P.O. Box 2970, Edmond, Oklahoma 73083-2970 | June 12, 2002 | 400252
Oregon: Coos | City of Bandon (00-10-382P) | Jan. 2, 2002, Jan. 9, 2002, Western World | The Honorable Brian M. Vick, Mayor, City of Bandon, City Hall, P.O. Box 433, Bandon, Oregon 97411 | Dec. 10, 2001 | 410043
South Dakota: Pennington | Town of New Underwood (02-08-085P) | Jan. 10, 2002, Jan. 17, 2002, Rapid City Journal | The Honorable Benita White, Mayor, Town of New Underwood, P.O. Box 278, New Underwood, South Dakota 57761 | Dec. 14, 2001 | 460092
Texas: Collin | City of Plano (01-06-1678P) | Mar. 15, 2002, Mar. 22, 2002, Plano Star Courier | The Honorable Jeran Akers, Mayor, City of Plano, P.O. Box 860358, Plano, Texas 75086-0358 | Mar. 5, 2002 | 480140
Virginia:
Prince William | City of Manassas (01-03-207P) | Mar. 14, 2002, Mar. 21, 2002, Manassas Journal Messenger | The Honorable Marvin L. Gillum, Mayor, City of Manassas, 9027 Center Street, Room 101, Manassas, Virginia 20110 | June 21, 2002 | 510122
Prince William | Unincorporated Areas (01-03-207P) | Mar. 14, 2002, Mar. 21, 2002, Manassas Journal Messenger | The Honorable Sean Connaughton, Chairman, Prince William County Board of Supervisors, One County Complex Court, Prince William, Virginia 22192 | June 21, 2002 | 510119
Washington: Mason | Skokomish Indian Tribe (01-10-496P) | Feb. 28, 2002, Mar. 7, 2002, Shelton Mason County Journal | The Honorable Denny Hurtado, Chairman, Skokomish Tribal Council, North 80 Tribal Center Road, Shelton, Washington 98584 | Feb. 7, 2002 | 530326

(Catalog of Federal Domestic Assistance No. 83.100, “Flood Insurance”)
Dated: April 22, 2002.
Robert F. Shea,
Acting Administrator, Federal Insurance and Mitigation Administration.

[FR Doc. 02-10558 Filed 4-29-02; 8:45 am]

BILLING CODE 6718-04-P